ENVIRONMENTAL PROTECTION AGENCY

[EPA-HQ-OAR-2024-0014; FRL-12216-01-OAR]

Clean Air Act Advisory Committee (CAAAC): Notice of Meeting

AGENCY: Environmental Protection Agency (EPA).

ACTION: Notice of meeting.

SUMMARY: Pursuant to the Federal Advisory Committee Act (FACA), the Environmental Protection Agency (EPA) is announcing a public meeting of the Clean Air Act Advisory Committee (CAAAC). The EPA renewed the CAAAC charter on October 31, 2022, to provide independent advice and counsel to EPA on economic, environmental, technical, scientific and enforcement policy issues associated with implementation of the Clean Air Act of 1990.

DATES: The CAAAC will hold its next hybrid (in-person and virtual) public meeting on Tuesday, September 17, 2024, from 1:00 p.m. to 4:00 p.m. (EST) and Wednesday, September 18, 2024, from 9:00 a.m. to 12:00 p.m. (EST). Members of the public may register to listen to the meeting or provide comments, by emailing caaac@epa.gov by 5:00 p.m. (EST) September 16, 2024.

FOR FURTHER INFORMATION CONTACT: Lorraine Reddick, Designated Federal Officer, Clean Air Act Advisory Committee (6103A), Environmental Protection Agency, 1200 Pennsylvania Ave. NW, Washington, DC 20460; telephone number: 202-564-1293; email address: reddick.lorraine@epa.gov. Additional information about this meeting, the CAAAC, and its subcommittees and workgroups can be found on the CAAAC website: http://www.epa.gov/caaac.

SUPPLEMENTARY INFORMATION: Pursuant to 5 U.S.C. App. 2 section 10(a)(2), notice is hereby given that the Clean Air Act Advisory Committee will hold its next hybrid (in-person and virtual) public meeting on Tuesday, September 17, 2024, from 1:00 p.m. to 4:00 p.m. (EST) and Wednesday, September 18, 2024, from 9:00 a.m. to 12:00 p.m. (EST).

The committee agenda and any documents prepared for the meeting will be publicly available on the CAAAC website at http://www.epa.gov/caaac prior to the meeting. Thereafter, these documents, together with CAAAC meeting minutes, will be available on the CAAAC website or by contacting the Office of Air and Radiation Docket and requesting information under docket EPA-HQ-OAR-2024-0014. The docket office can be reached by email at: a-and-r-Docket@epa.gov or FAX: 202-566-9744.

For information on access or services for individuals with disabilities, please contact Lorraine Reddick at reddick.lorraine@epa.gov, preferably at least 7 days prior to the meeting to give EPA as much time as possible to process your request.

Lorraine Reddick,
Designated Federal Officer, Office of Air Policy and Program Support.

[FR Doc. 2024-19326 Filed 8-27-24; 8:45 am]

BILLING CODE 6560-50-P